DEPARTMENT OF HEALTH AND HUMAN SERVICES

Administration for Children and Families

[Office of Management and Budget #: 0970-0589]

Submission for Office of Management and Budget Review; Low Income Home Energy Assistance Program (LIHEAP) Quarterly Reports

AGENCY: The Office of Community Services, Administration for Children and Families, U.S. Department of Health and Human Services.

ACTION: Request for Public Comments.

SUMMARY: The Administration for Children and Families (ACF) is requesting a 3-year extension of the form Low Income Home Energy Assistance Program (LIHEAP) Quarterly Reports (Office of Management and Budget (OMB) #: 0970-0589, expiration October 31, 2025). Changes are proposed, which would reduce redundancy and administrative burden for respondents.

DATES: Comments due April 3, 2026.

ADDRESSES: The public may view and comment on this information collection request at: https://www.reginfo.gov/public/do/PRAViewICR?ref_nbr=202602-0970-013. You can also obtain copies of the proposed collection of information by emailing infocollection@acf.hhs.gov. Identify all emailed requests by the title of the information collection.

SUPPLEMENTARY INFORMATION:

Description: The LIHEAP Quarterly Report assists the Office of Community Services in receiving data and information about LIHEAP during the federal fiscal year (FFY). This almost real time data ensures ACF can continue to:

(1) Track key information, such as the number of households served, in “real time” versus in the new fiscal year.

(2) Effectively address challenges in a timely manner, including supporting emerging training and technical assistance needs, addressing challenges with obligating funds, and addressing outreach and intake issues, such as reaching newly eligible households.

(3) Ensure accountability and transparency by using the information to regularly update public dashboards and keep key decision makers informed of grantee progress.

All grant recipients, including states, tribes, and territories, will submit brief quarterly reports with critical information on the status of LIHEAP. The Quarterly Report forms will include questions on:

• Total households assisted;

• Performance management including the number of occurrences in which LIHEAP funding prevented the loss of or restored home energy services; and

• The estimated percentage of LIHEAP funds that have been obligated by funding component.

Grant recipients will also have an opportunity to highlight additional training/technical assistance needs/suggestions, which the Office of Community Services uses to inform support such as training and resources.

ACF also proposes several small changes to the LIHEAP Quarterly Report beginning with the Quarter 4 report due October 31, 2025, and beyond. Those changes only affect Section III of the Quarter 3 (due July 31st, and beyond) and Quarter 4 reports (due October 31st, and beyond). The changes to section III involve inclusion of the primary data elements from the separate LIHEAP Carryover and Reallotment Report (OMB #: 0970-0106), which ACF wishes to discontinue use of in favor of only obtaining such data through the LIHEAP Quarterly Report. Section III would more clearly distinguish “carryover” fund estimated (Quarter 3) and final amounts (Quarter 4) from “reallotment” fund estimated and final amounts. The Quarter 3 and 4 section III also includes a “remarks” field for grant recipients to complete only if they are indicating a request to carryover funds to obligate in the next FFY. The federal LIHEAP statute requires all grant recipients requesting carryover to explain why they wish to carryover and how they intend to use such carryover funds in the next year (42 U.S.C. 8626(b)(2)(A)).

Respondents: States and tribes

Annual Burden Estimates

The estimated time per response for this report was increased from 12 to 16 hours to account for the proposed changes. These changes are expected to reduce effort overall, however, by eliminating the Carryover and Reallotment Report, as discussed above.

Instrument | Total number of respondents | Annual number of responses per respondent | Average burden hours per response | Annual burden hours
LIHEAP Quarterly Report | 185 | 4 | 16 | 11,840

Authority: (42 U.S.C. 8626 and 8629) and Federal regulations (45 CFR 96.92)

Mary C. Jones,
ACF/OPRE Certifying Officer.

[FR Doc. 2026-04249 Filed 3-3-26; 8:45 am]

BILLING CODE 4184-80-P